FEDERAL ELECTION COMMISSION

Sunshine Act Notices

AGENCY: Federal Election Commission.

Previously Announced Date and Time: Thursday, June 12, 2003, meeting open to the public:

The following item was withdrawn from the agenda: Draft Advisory Opinion 2103-05: National Association of Home Builders of the United States (NAHB) by counsel, E. Mark Braden and William H. Schweitzer.

Date and Time: Thursday, June 19, 2003 at 10 a.m.

Place: 999 E Street, NW., Washington, DC (Ninth Floor).

Status: This meeting will be open to the public.

Items to be Discussed: Correction and Approval of Minutes.

Draft Advisory Opinion 2003-14: The Home Depot, Inc. by counsel, Brett G. Kappel.

Routine Administrative Matters.

For Further Information Contact: Mr. Ron Harris, Press Officer Telephone: (202) 694-1220.

Mary W. Dove,
Secretary of the Commission.

[FR Doc. 03-15043 Filed 6-10-03; 3:10 pm]

BILLING CODE 6715-01-M